DEPARTMENT OF ENERGY

Federal Energy Regulatory Commission

[Docket No. RP01-588-000]

Ozark Gas Transmission, L.L.C.; Notice of Tariff Filing and Annual Charge Adjustment

September 13, 2001.

Take notice that on September 5, 2001, Ozark Gas Transmission, L.L.C. (Ozark) tendered for filing as part of its FERC Gas Tariff, Original Volume No. 1, Second Revised Sheet No. 13, to be effective October 1, 2001.

Ozark states that the purpose of its filing is to reflect a decrease in the ACA rate to $0.0021 per Dth from $0.0022 per Dth effective October 1, 2001. Ozark further states that Article 11 of the General Terms and Conditions of Ozark's FERC Gas Tariff allows it to file to track changes in the ACA surcharge.

Ozark further states that it has served copies of this filing upon the company's jurisdictional customers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed on or before September 20, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-23392 Filed 9-19-01; 8:45 am]

BILLING CODE 6717-01-P